DEPARTMENT OF COMMERCE

National Oceanic and Atmospheric Administration

Proposed Information Collection; Comment Request: Socioeconomics of Recreational Fishing in Florida's Gulf Coast

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 19, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Danielle Schwarzmann, 301-713-7254 danielle.schwarzmann@noaa.gov.

SUPPLEMENTARY INFORMATION:

I. Abstract

This request is for a new information collection.

Through a partnership with The Rosenstiel School of Marine and Atmospheric Science at the University of Miami, we will collect information from recreational fishers to complete quantitative economic valuations of ecosystem goods and services produced for recreational fisheries in Florida's Gulf Coast. The survey will utilize the stated choice method to estimate the marginal value of a change in catch rates and other biological or economic attributes of the recreational fishery. These may include; size, type of fish and/or method of fishing.

This information will be utilized by Florida Fish and Wildlife Conservation Commission (FFWCC) and the National Marine Fisheries Service, Southeast Fisheries Science Center (SEFSC) fisheries scientists and managers to enhance the scope of information used for stock assessment. Additionally, this economic data will be integrated into the recreational fisheries management decision-making processes. The information will directly benefit Office of National Marine Sanctuaries (ONMS), as it will help us to identify socioeconomic indicators for recreational fishing that we can incorporate into management process/decisions and future condition reports to evaluate the status and trends of the recreational fishing ecosystem service.

II. Method of Collection

Internet and mail.

III. Data

OMB Control Number: 0648-XXXX.

Form Number: None.

Type of Review: Regular submission (request for a new information collection).

Affected Public: Individuals or households.

Estimated Number of Respondents: 1,000.

Estimated Time per Response: 20 minutes.

Estimated Total Annual Burden Hours: 333.

Estimated Total Annual Cost to Public: Other than labor costs, there will be no cost to the public.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 12, 2016.
Sarah Brabson,
NOAA PRA Clearance Officer.

[FR Doc. 2016-03432 Filed 2-18-16; 8:45 am]

BILLING CODE 3510-NK-P